DEPARTMENT OF ENERGY

Federal Energy Regulatory Commission

Combined Notice of Filings #1

Take notice that the Commission received the following exempt wholesale generator filings:

Docket Numbers: EG24-54-000.

Applicants: MS Solar 5, LLC.

Description: MS Solar 5, LLC submits Notice of Self-Certification of Exempt Wholesale Generator Status.

Filed Date: 12/8/23.

Accession Number: 20231208-5156.

Comment Date: 5 p.m. ET 12/29/23.

Take notice that the Commission received the following electric rate filings:

Docket Numbers: ER24-597-000.

Applicants: PJM Interconnection, L.L.C.

Description: § 205(d) Rate Filing: Revised Service Agreement No. 6258 re: NITSA among PJM and Wabash Valley to be effective 11/16/2023.

Filed Date: 12/7/23.

Accession Number: 20231207-5199.

Comment Date: 5 p.m. ET 12/28/23.

Docket Numbers: ER24-598-000.

Applicants: McFarland Solar A, LLC.

Description: § 205(d) Rate Filing: McFarland Solar A, LLC LGIA Co-Tenancy Agreement to be effective 12/8/2023.

Filed Date: 12/7/23.

Accession Number: 20231207-5204.

Comment Date: 5 p.m. ET 12/28/23.

Docket Numbers: ER24-599-000.

Applicants: Pacific Gas and Electric Company.

Description: § 205(d) Rate Filing: Transmission Access Charge Balancing Account Adjustment (TACBAA) 2024 to be effective 3/1/2024.

Filed Date: 12/7/23.

Accession Number: 20231207-5213.

Comment Date: 5 p.m. ET 12/28/23.

Docket Numbers: ER24-600-000.

Applicants: Baldy Mesa Solar, LLC.

Description: § 205(d) Rate Filing: Baldy Mesa Solar, LLC Shared Facilities Agreement to be effective 12/8/2023.

Filed Date: 12/7/23.

Accession Number: 20231207-5221.

Comment Date: 5 p.m. ET 12/28/23.

Docket Numbers: ER24-601-000.

Applicants: Baldy Mesa Solar, LLC.

Description: § 205(d) Rate Filing: Baldy Mesa Solar, LLC LGIA Co-Tenancy Agreement to be effective 12/9/2023.

Filed Date: 12/8/23.

Accession Number: 20231208-5001.

Comment Date: 5 p.m. ET 12/29/23.

Docket Numbers: ER24-602-000.

Applicants: Ohio Power Company.

Description: § 205(d) Rate Filing: Ohio Power Company Category Status Change to be effective 12/9/2023.

Filed Date: 12/8/23.

Accession Number: 20231208-5048.

Comment Date: 5 p.m. ET 12/29/23.

Docket Numbers: ER24-603-000.

Applicants: Southern California Edison Company.

Description: Tariff Amendment: Termination of eTariff Record, Solar Star 4 LGIA—TOT821/SA No. 236 to be effective 2/7/2024.

Filed Date: 12/8/23.

Accession Number: 20231208-5076.

Comment Date: 5 p.m. ET 12/29/23.

Docket Numbers: ER24-604-000.

Applicants: PJM Interconnection, L.L.C.

Description: Tariff Amendment: Notice of Cancellation of WMPA, Service Agreement No. 5751; Queue No. AF2-087 to be effective 2/7/2024.

Filed Date: 12/8/23.

Accession Number: 20231208-5077.

Comment Date: 5 p.m. ET 12/29/23.

Docket Numbers: ER24-605-000.

Applicants: Southern California Edison Company.

Description: Tariff Amendment: Termination of eTariff Record, Solar Star 3 LGIA—TOT795/SA No. 235 to be effective 2/7/2024.

Filed Date: 12/8/23.

Accession Number: 20231208-5078.

Comment Date: 5 p.m. ET 12/29/23.

Docket Numbers: ER24-606-000.

Applicants: McFarland Solar B, LLC.

Description: § 205(d) Rate Filing: McFarland Solar B, LLC LGIA Co-Tenancy Agreement to be effective 12/9/2023.

Filed Date: 12/8/23.

Accession Number: 20231208-5127.

Comment Date: 5 p.m. ET 12/29/23.

Docket Numbers: ER24-607-000.

Applicants: Silver Peak Energy, LLC.

Description: § 205(d) Rate Filing: Silver Peak Energy, LLC SFA Concurrence to be effective 12/9/2023.

Filed Date: 12/8/23.

Accession Number: 20231208-5132.

Comment Date: 5 p.m. ET 12/29/23.

Docket Numbers: ER24-608-000.

Applicants: Silver Peak Energy, LLC.

Description: § 205(d) Rate Filing: Silver Peak Energy, LLC LGIA Co-Tenancy Agreement to be effective 12/9/2023.

Filed Date: 12/8/23.

Accession Number: 20231208-5140.

Comment Date: 5 p.m. ET 12/29/23.

Docket Numbers: ER24-609-000.

Applicants: PJM Interconnection, L.L.C.

Description: § 205(d) Rate Filing: Amendment to WMPA, SA No. 5545; Queue No. AE2-125 to be effective 2/7/2024.

Filed Date: 12/8/23.

Accession Number: 20231208-5141.

Comment Date: 5 p.m. ET 12/29/23.

Docket Numbers: ER24-610-000.

Applicants: Soldier Creek Wind, LLC.

Description: § 205(d) Rate Filing: Soldier Creek Wind, LLC Interim Shared Facilities Agreement to be effective 12/9/2023.

Filed Date: 12/8/23.

Accession Number: 20231208-5148.

Comment Date: 5 p.m. ET 12/29/23.

Docket Numbers: ER24-611-000.

Applicants: PJM Interconnection, L.L.C.

Description: Tariff Amendment: Notice of Cancellation of ISA & CSA, SA Nos. 5231 & 5232; Queue #AC1-048/AC2-053 to be effective 11/22/2023.

Filed Date: 12/8/23.

Accession Number: 20231208-5150.

Comment Date: 5 p.m. ET 12/29/23.

Docket Numbers: ER24-612-000.

Applicants: PJM Interconnection, L.L.C.

Description: § 205(d) Rate Filing: Amendment to WMPA, SA No. 6597; Queue No. AF2-294 (amend) to be effective 2/7/2024.

Filed Date: 12/8/23.

Accession Number: 20231208-5161.

Comment Date: 5 p.m. ET 12/29/23.

Docket Numbers: ER24-613-000.

Applicants: PJM Interconnection, L.L.C.

Description: Tariff Amendment: Notice of Cancellation of ISA, Service Agreement No. 5360; Queue No. Z1-116 to be effective 2/7/2024.

Filed Date: 12/8/23.

Accession Number: 20231208-5168.

Comment Date: 5 p.m. ET 12/29/23.

Docket Numbers: ER24-614-000.

Applicants: Public Service Company of New Mexico.

Description: Compliance filing: PNM Refund Report to be effective N/A.

Filed Date: 12/8/23.

Accession Number: 20231208-5187.

Comment Date: 5 p.m. ET 12/29/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 8, 2023.
Debbie-Anne A. Reese,
Deputy Secretary.

[FR Doc. 2023-27486 Filed 12-13-23; 8:45 am]

BILLING CODE 6717-01-P